DEPARTMENT OF LABOR

Employment and Training Administration

[TA-W-65,470]

Fluidmaster, Inc., San Juan Capistrano, CA; Notice of Termination of Investigation

Pursuant to Section 221 of the Trade Act of 1974, as amended, an investigation was initiated on March 4, 2009 in response to a petition filed by a company official on behalf of workers at Fluidmaster, Inc., San Juan Capistrano, California. The workers at the subject facility produce toilet repair products.

The petitioner has requested that the petition be withdrawn. Consequently, the investigation has been terminated.

Signed in Washington, DC, this 16th day of April 2009.
Richard Church,
Certifying Officer, Division of Trade Adjustment Assistance.

[FR Doc. E9-10907 Filed 5-8-09; 8:45 am]

BILLING CODE 4510-FN-P